DEPARTMENT OF THE INTERIOR

Bureau of Indian Affairs

[234A2100DD/AAKC001030/A0A51010.999900]

Proclaiming Certain Lands as Reservation for Kalispel Indian Community of the Kalispel Reservation

AGENCY: Bureau of Indian Affairs, Interior.

ACTION: Notice of reservation proclamation.

SUMMARY: This notice informs the public that the Assistant Secretary—Indian Affairs proclaimed approximately 20.06 acres, more or less, as an addition to the reservation of Kalispel Indian Community of the Kalispel Reservation.

DATES: This proclamation was made on September 21, 2023.

FOR FURTHER INFORMATION CONTACT: Ms. Carla H. Clark, Bureau of Indian Affairs, Acting Division Chief, Division of Real Estate Services, 1001 Indian School Road NW, Box #44, Albuquerque, New Mexico 87104, Carla.Clark@bia.gov, (720) 424-3233.

SUPPLEMENTARY INFORMATION: This notice is published in the exercise of authority delegated by the Secretary of the Interior to the Assistant Secretary—Indian Affairs by part 209 of the Departmental Manual.

A proclamation is issued in accordance with the Act of June 18, 1934 (48 Stat. 984; 25 U.S.C. 5110) for the lands described below. The lands are proclaimed to be the Kalispel Reservation for the Kalispel Indian Community of the Kalispel Reservation in Pend Oreille County, Washington.

Parcel No.: 443205320003; 14962 HWY 211 Property (a.k.a. Gould Property)

103-T1025

That portion of the Northwest Quarter of the Southwest Quarter of Section 5, Township 32 North, Range 44 E. W.M., Pend Oreille County, Washington, lying West of Highway 20 and East of Highway No. 211 (formerly No. 6B).

Situate in Pend Oreille County, Washington

Containing 20.06 acres, more or less.

The above described lands contain a total of 20.06 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2023-21297 Filed 9-28-23; 8:45 am]

BILLING CODE 4337-15-P